DEPARTMENT OF TRANSPORTATION

Federal Aviation Administration

Supplemental Type Certificate SE03079AT; Original Product Type Certificate Numbers E-162

AGENCY: Federal Aviation Administration (FAA), DOT.

ACTION: Surrendered supplemental type certificate.

SUMMARY: This notice announces Air Repair, Inc. surrendered its supplemental type certificates (STC) SE03079AT to the FAA. This action is intended to inform all aircraft owners who may possess a product affected by these surrendered certificates.

FOR FURTHER INFORMATION CONTACT: Gary Wechsler, East Certification Branch, Federal Aviation Administration, 1701 Columbia Avenue, College Park, GA 30337; telephone (404) 474-5575; email gary.wechsler@faa.gov.

SUPPLEMENTARY INFORMATION: Air Repair, Inc. notified the FAA by letter received September 16, 2024, it is voluntarily surrendering the following STC:

STC No. | Description of type design change | Associated type certificate No.
SE03079AT | Modify the Teledyne Continental W670 Series aircraft engines by replacing the crankshaft front and rear main ball bearings with higher capacity roller bearings per Giroux Aviation, Inc. Supplement, including Installing Instructions and Drawing List, to Continental Form X30009 Overhaul Manual and Parts Catalog for W670 Series Aircraft Engines, Rev. none, dated March 30, 2003, or later approved revision | E-162.

Issued on March 21, 2025.
Christina M. Underwood,
Manager, East Certification Branch, Compliance and Airworthiness Division, Aircraft Certification Service.

[FR Doc. 2025-05103 Filed 3-25-25; 8:45 am]

BILLING CODE 4910-13-P